DEPARTMENT OF LABOR

Employment and Training Administration

[TA-W-42,353 and TA-W-42,353A]

Cerf Brothers Bag Company, New London, MO, Cerf Brothers Bag Company, Vandalia, MO; Notice of Termination of Investigation

Pursuant to Section 221 of the Trade Act of 1974, an investigation was initiated on November 1, 2002 in response to a worker petition, which was filed on behalf of workers at Cerf Brothers Bag Company, New London and Vandalia, Missouri.

The petition has been deemed invalid. The investigation revealed that the workers at the subject firm filed for two locations and therefore the submitted petition is invalid. Consequently, further investigation in this case would serve no purpose, and the investigation has been terminated.

Signed in Washington, DC this 10th day of March 2003.
Linda G. Poole,
Certifying Officer, Division of Trade Adjustment Assistance.

[FR Doc. 03-7199 Filed 3-25-03; 8:45 am]

BILLING CODE 4510-30-P